DEPARTMENT OF ENERGY

High Energy Physics Advisory Panel

AGENCY: Office of Science, Department of Energy (DOE).

ACTION: Notice of open meeting.

SUMMARY: This notice announces a hybrid meeting of the DOE/NSF High Energy Physics Advisory Panel (HEPAP). The Federal Advisory Committee Act requires that public notice of these meetings be announced in the Federal Register.

DATES:

Thursday, May 9, 2024; 9 a.m. to 5 p.m. EDT.

Friday, May 10, 2024; 9 a.m. to 3 p.m. EDT.

ADDRESSES: This meeting is open to the public. This meeting will be held at the Hilton Rockville, 1750 Rockville Pike, Rockville, Maryland 20852-1699. Participation through ZOOM will also be available. Information to participate can be found on the website closer to the meeting date at https://science.osti.gov/hep/hepap/meetings/.

FOR FURTHER INFORMATION CONTACT: John Kogut, High Energy Physics Advisory Panel (HEPAP); U.S. Department of Energy; Office of Science; SC-35/Germantown Building, 1000 Independence Avenue SW, Washington, DC 20585; Telephone: (301) 903-1298; Email: John.Kogut@science.doe.gov

SUPPLEMENTARY INFORMATION:

Purpose of the Committee: The purpose of the Committee is to provide advice and recommendations to the Department of Energy, Office of Science (SC) and the National Science Foundation, Assistant Director, Mathematical & Physical Sciences Directorate on the national high energy physics program.

Tentative Agenda

• Update from DOE—Regina Rameika

• Update from NSF—Denise Caldwell/Saul Gonzalez

• Presentation of the HEP implementation plan of the 2023 P5 Report—Regina Rameika

• Presentation of the Facilities for the Next Decade Report—Natalie Roe

• Discussion and voting on the Facilities for the Next Decade Report

• Presentation of the Report of the COV on the Facilities Division of HEP

• Discussion and voting of the COV Report

Public Participation: The meeting is open to the public. A webcast of this meeting will be available. Please check https://science.osti.gov/hep/hepap/meetings/ for updates and information on how to view the meeting. If you would like to file a written statement with the Committee, you may do so either before or after the meeting. If you would like to make oral statements regarding any of these items on the agenda, you should contact John Kogut, (301) 903-1298 or by email at John.Kogut@science.doe.gov. You must make your request for an oral statement at least five business days before the meeting. Reasonable provisions will be made to include the scheduled oral statements on the agenda. If you have any questions or need a reasonable accommodation under the Americans with Disabilities Act for this event, please send your request to John Kogut at john.kogut@science.doe.gov two weeks but no later than 48 hours, prior to the event. Closed captions will be enabled. The Chairperson of the Panel will conduct the meeting to facilitate the orderly conduct of business. Public comment will follow the 10-minute rule.

Minutes: The minutes of the meeting will be available on the High Energy Physics Advisory Panel website at https://science.osti.gov/hep/hepap/meetings/.

Signing Authority: This document of the Department of Energy was signed on March 19, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 20, 2024.
Treena V. Garrett,
Federal Register Liaison Officer, U.S. Department of Energy.

[FR Doc. 2024-06212 Filed 3-22-24; 8:45 am]

BILLING CODE 6450-01-P